DEPARTMENT OF TRANSPORTATION

Federal Aviation Administration

Agency Information Collection Activities: Requests for Comments; Clearance of Renewed Approval of Information Collection: Application for Employment With the Federal Aviation Administration

AGENCY: Federal Aviation Administration (FAA), DOT.

ACTION: Notice and request for comments.

SUMMARY: In accordance with the Paperwork Reduction Act of 1995, FAA invites public comments about our intention to request the Office of Management and Budget (OMB) approval for a new information collection. The information collected is used to collect, process and report Unmanned Aircraft System (UAS) airborne and ground based observations by the public of drone behavior that they consider suspicious or illegal.

DATES: Written comments should be submitted by July 11, 2016.

ADDRESSES: Send comments to the FAA at the following address: Ronda Thompson, Room 441, Federal Aviation Administration, ASP-110, 950 L'Enfant Plaza SW., Washington, DC 20024.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson at (202) 267-1416, or by email at: Ronda.Thompson@faa.gov.

SUPPLEMENTARY INFORMATION:

OMB Control Number: Not assigned.

Title: Unmanned Aircraft System (UAS) Event Reporting System (UETS).

Form Numbers: There are no FAA forms associated with this collection. Information is collected via www.faa.gov/mobile external site.

Type of Review: New information collection.

Background: Under the provisions of Public Law 112-95, the Federal Aviation Administration (FAA) was given the authority and the responsibility for assessing the flight behavior of Unmanned Aircraft Systems and enable the reporting of UAS sightings that cause public concern for safety, national security, and/or privacy. The UETS web application will be used to collect, process and report UAS airborne and ground based observations (by the public) of drone behavior that they consider suspicious or illegal.

Respondents: Approximately 6,000 responses annually.

Frequency: Information is collected on occasion.

Estimated Average Burden per Response: 2.75 minutes.

Estimated Total Annual Burden: 275 hours.

Issued in Washington, DC, on May 4, 2016.
Ronda Thompson,
FAA Information Collection Clearance Officer, Performance, Policy, and Records Management Branch, ASP-110.

[FR Doc. 2016-10976 Filed 5-9-16; 8:45 am]

BILLING CODE 4910-13-P